DEPARTMENT OF HOMELAND SECURITY

Federal Emergency Management Agency

[Internal Agency Docket No. FEMA-4340-DR; Docket ID FEMA-2024-0001]

Virgin Islands; Amendment No. 7 to Notice of a Major Disaster Declaration

AGENCY: Federal Emergency Management Agency, DHS.

ACTION: Notice.

SUMMARY: This notice amends the notice of a major disaster for the territory of the U.S. Virgin Islands (FEMA-4340-DR), dated September 20, 2017, and related determinations.

DATES: This amendment was issued February 8, 2024.

FOR FURTHER INFORMATION CONTACT: Dean Webster, Office of Response and Recovery, Federal Emergency Management Agency, 500 C Street SW, Washington, DC 20472, (202) 646-2833.

SUPPLEMENTARY INFORMATION: Notice is hereby given that, in a letter dated February 8, 2024, the President amended the cost-sharing arrangements regarding Federal funds provided under the authority of the Robert T. Stafford Disaster Relief and Emergency Assistance Act, 42 U.S.C. 5121 et seq. (the “Stafford Act”), in a letter to Deanne Criswell, Administrator, Federal Emergency Management Agency, Department of Homeland Security, under Executive Order 12148, as follows:

I have determined that the unprecedented and combined impact of hurricanes Irma and Maria on the territory of the U.S. Virgin Islands warrant special cost-sharing arrangements for Federal funds provided under the Robert T. Stafford Disaster Relief and Emergency Assistance Act, 42 U.S.C. 5121 et seq. (the “Stafford Act”).

Therefore, I amend the declarations signed by the President on September 7, 2017, and September 20, 2017, to authorize the following: An increase in the Federal share to 95 percent for all Public Assistance categories, retroactive to include all projects currently funded at less than 100 percent; and an increase in the Federal share to 98 percent until September 30, 2024, for all projects utilizing Section 428 procedures. The additional 3 percent Federal share apply only to projects for which a Fixed Cost Offer has been accepted by September 30, 2024, subject to extension on a per-project basis by the Administrator of the Federal Emergency Management Agency for specific and unavoidable extenuating circumstances. Section 428 projects not completed by December 31, 2035, revert to a 95 percent Federal cost share.

The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050, Presidentially Declared Disaster Assistance to Individuals and Households—Other Needs; 97.036, Disaster Grants—Public Assistance (Presidentially Declared Disasters); 97.039, Hazard Mitigation Grant.

Deanne Criswell,
Administrator, Federal Emergency Management Agency.

[FR Doc. 2024-05520 Filed 3-14-24; 8:45 am]

BILLING CODE 9111-23-P